DEPARTMENT OF TRANSPORTATION

Federal Aviation Administration

Procedures for Requesting Air Traffic Data under the Pilot's Bill of Rights

AGENCY: Federal Aviation Administration (FAA), DOT.

ACTION: Notice.

SUMMARY: The FAA is taking down the “Pilot's Bill of Rights” hyperlink on the FAA Internet Web page (www.faa.gov/pilots) and the email address AirmenDataRequest@faa.gov for processing requests for air traffic data under the Pilot's Bill of Rights (PBR), Pub. L. 112-153 (Aug. 3, 2012). Individuals entitled to access or otherwise obtain air traffic data under the PBR should direct such requests to the FAA investigator that provided them with the written notification of investigation.

DATES: Effective date February 17, 2015.

SUPPLEMENTARY INFORMATION:

A. Background

On August 22, 2012, the FAA published a Notice (77 FR 52107) specifying how and where an airman subject to an FAA investigation may submit a request to the FAA under the Pilot's Bill of Rights, Pub. L. 112-153 (Aug. 3, 2012), to obtain air traffic data in the possession of a government contractor. Specifically, the Notice instructed airmen to click on the “Pilot's Bill of Rights” hyperlink on the FAA's Internet Web page to find out what specific information they would need to include in their request to obtain air traffic data in the possession of a government contractor, and that they should email their requests to a centralized point of contact at the following email address: AirmenDataRequest@faa.gov.

B. Removal of “Pilot's Bill of Rights” Hyperlink From the FAA Internet Web Page and the FAA Email Address—AirmenDataRequest@faa.gov.

Although the FAA established the email address—AirmenDataRequest@faa.gov—as a centralized point-of-contact for the expeditious and efficient processing of requests for air traffic data in the possession of a government contractor by airmen who are the subject of an investigation, the email address has been burdened with many other types of requests (e.g., unspecified requests for “any air traffic data,” requests for other agency information, or requests by individuals who are not the subject of an investigation related to the approval, denial, suspension, modification, or revocation of an airman certificate). Because the email address is no longer an efficacious means for processing the requests for which it was intended, the FAA will no longer be using it and it will remove the instructions from the “Pilot's Bill of Rights” hyperlink that directed airmen to that email address.

C. How Individuals Subject to an FAA Investigation Related to the Approval, Denial, Suspension, Modification, or Revocation of an Airman Certificate May Obtain Air Traffic Data in the Possession of a Government Contractor

Individuals who have received notification from an FAA investigator that they are the subject of an investigation related to the approval, denial, suspension, modification, or revocation of an airman certificate may access or otherwise obtain air traffic data by contacting the FAA investigator that provided them with that notification.

Issued in Washington, DC, on January 14, 2015.
Peter J. Lynch,
Assistant Chief Counsel for Enforcement.

[FR Doc. 2015-00791 Filed 1-16-15; 8:45 am]

BILLING CODE 4910-13-P